POSTAL SERVICE

39 CFR Part 111

New Marking Requirement for Bound Printed Matter Machinable Parcels

AGENCY: Postal Service.

ACTION: Proposed rule.

SUMMARY: The Postal Service proposes a new marking requirement for Bound Printed Matter machinable parcels consisting of multiple pieces secured with transparent shrinkwrap. Under our proposal, mailers must use a firm optional endorsement line or apply a pressure-sensitive firm bundle Label F. The new marking will enable our automated equipment to recognize that a Bound Printed Matter parcel is intended for a single address.

DATES: We must receive your comments on or before January 26, 2006. We propose to implement these changes on May 11, 2006.

ADDRESSES: Mail or deliver written comments to the Manager, Mailing Standards, U.S. Postal Service, 475 L'Enfant Plaza, SW., Room 3436, Washington DC 20260-3436. You may inspect and photocopy all written comments at USPS Headquarters Library, 475 L'Enfant Plaza, SW., 11th Floor N, Washington DC between 9 a.m. and 4 p.m., Monday through Friday.

FOR FURTHER INFORMATION CONTACT: Joel Walker, 202-268-7266.

SUPPLEMENTARY INFORMATION: Our new Automated Package Processing System (APPS) simultaneously sorts parcels and bundles of mail. When APPS sees a Bound Printed Matter (BPM) machinable parcel that consists of multiple pieces, such as catalogs, shrinkwrapped together and destined for a single address, APPS is programmed to identify the parcel as a presort destination bundle. When APPS fails to find an optional endorsement line (OEL) or bundle label it diverts the parcel to a reject bin.

Our proposal would require mailers to place either a firm OEL or a firm bundle Label F on BPM machinable parcels that APPS otherwise might mistake as bundles. If using a firm OEL, mailers must place it and the 5-digit destination ZIP Code of the BPM parcel in the address block in the same location designated for all OELs.

The firm OEL or bundle Label F will indicate to APPS that the parcel is destined for a single address, allowing APPS to properly sort the parcel. This new marking requirement is for BPM machinable parcels only.

In addition to our proposal for the firm OEL or bundle Label F, mailers must make the delivery address information and the bundle Label F or OEL visible and readable by the naked eye. We published these readability standards in the Federal Register on October 20, 2005 (70 FR 61037).

We provide the new standards below. We propose to implement these changes on May 11, 2006.

Although we are exempt from the notice and comment requirements of the Administrative Procedure Act (5 U.S.C. 410 (a)), we invite comments on the following proposed revisions to Mailing Standards of the United States Postal Service, Domestic Mail Manual (DMM), incorporated by reference in the Code of Federal Regulations. See 39 CFR Part 111.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

400 Discount Mail Parcels

* * * * *

402 Elements on the Face of a Mailpiece

* * * * *

2.0 Placement and Content of Markings

* * * * *

2.2 Parcel Post, Bound Printed Matter, Media Mail, and Library Mail Markings

* * * * *

[Renumber 2.2.5 and 2.2.6 as 2.2.6 and 2.2.7 Add new 2.2.5, as follows:]

2.2.5 Address and Firm Designation on Bound Printed Matter Machinable Parcels

When a BPM machinable parcel consists of multiple copies for a single address secured with transparent shrinkwrap, the delivery address information and barcoded pressure-sensitive bundle label or optional endorsement line must be visible and readable by the naked eye. Mailers must label the parcel using one of the following options:

a. A firm optional endorsement line under 708.7.0, followed by the 5-digit destination ZIP Code of the parcel.

b. A blue, pressure-sensitive, barcoded bundle Label F on the address side of the bundle.

* * * * *

700 Special Standards

* * * * *

708 Technical Specifications

* * * * *

7.0 Optional Endorsement Lines (OELs)

* * * * *

7.1 OEL Use

* * * * *

Exhibit 7.1.1 OEL Formats

[Revise Exhibit 7.1.1 by adding an OEL example for BPM parcels, as follows:]

Sortation level | OEL example
Firm—BPM machinable parcels | FIRM 12345.

We will publish an appropriate amendment to 39 CFR Part 111 to reflect these changes if our proposal is adopted.

Neva R. Watson,
Attorney, Legislative.

[FR Doc. E5-7857 Filed 12-23-05; 8:45 am]

BILLING CODE 7710-12-P